DEPARTMENT OF LABOR

Office of the Secretary

Submission for OMB Review: Comment Request

May 15, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling Ira Mills on 202-693-4122 (this is not a toll-free number) or E-Mail: Mills.Ira@dol.gov, or by accessing http://www.reginfo.gov/public/do/PRAMain.

Comments should be sent to Office of Information and Regulatory Affairs, Attn: OMB Desk Officer for U.S. Department of Labor/Bureau of Labor Statistic (BLS), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a currently approved Collection.

Title: Report on Occupational Employment and Wages.

OMB Number: 1220-0042.

Frequency: Semi-annually.

Affected Public: Business or other for-profit; Not-for-profit institutions; Federal Government, State, Local, or Tribal Government.

Type of Response: Reporting.

Number of Respondents: 315,900.

Number of Annual Responses: 315,900.

Estimated Time per Response: 45 minutes.

Total Burden Hours: 236,925.

Total Annualized Capital/Startup Costs: 0.

Total Annual Costs: 0 (operating/maintaining systems or purchasing services).

Description: The Occupational Employment Statistics (OES) survey is a Federal/State establishment survey of wage and salary workers designed to produce data on current detailed occupational employment and wages for each Metropolitan Statistical Area and Metropolitan Division by detailed industry classification. OES survey data assists in the development of employment and training programs established by the Perkins Vocational Education Act of 1998 and the Workforce Investment Act (WIA) of 1998 (See attachments I and II for pertinent sections of each Act).

The WIA mandates that the Secretary of Labor shall oversee the development, maintenance, and continuous improvement of a nationwide employment statistics system of employment statistics that includes—“(A) statistical data from cooperative statistical survey and projection programs and data from administrative reporting systems that, taken together, enumerate, estimate, and project employment opportunities and conditions at national, State, and local levels in a timely manner, including statistics on—(ii) industrial distribution of occupations, as well as current and projected employment opportunities, wages, benefits (where data are available), and skill trends by occupation and industry, with particular attention paid to State and local conditions;”

Occupational employment data obtained by the OES survey are used to develop information regarding current and projected employment needs and job opportunities. These data assist in the development of State and local vocational education plans. Nation-wide collection of OES wage data can further develop labor market and occupational information at the Federal, State, and sub-State levels. The survey meets the needs of organizations involved in planning and delivering services provided by the WIA and the Perkins Vocational Education Act.

Ira L. Mills,
Departmental Clearance Officer/Team Leader.

[FR Doc. E7-9564 Filed 5-17-07; 8:45 am]

BILLING CODE 4510-24-P